DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Evaluation of the NOAA Coastal Management Fellowship Program.

Form Number(s): None.

OMB Approval Number: None.

Type of Request: Regular submission.

Burden Hours: 75.

Number of Respondents: 127.

Average Hours per Response: Current and past fellow surveys, 35 minutes; current and past mentor surveys, 40 minutes; and Coastal Services Center Partners and Sea Grant Director surveys, 25 minutes.

Needs and Uses: The NOAA National Ocean Service Coastal Services Center will conduct an evaluation of the NOAA Coastal Management Fellowship Program. The evaluation is designed to assess the effectiveness of the fellowship program. Respondents include: Current and past fellows, current and past state coastal zone management program mentors, and Center partners. The results of the evaluation will allow the Center to identify aspects of the program that enhance state coastal zone management programs and determine how the fellowship impacts a fellow's professional experiences.

Affected Public: Individuals or households; not-for-profit institutions.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 4, 2006.
Gwellnar Banks,
Management Analyst, Office of the Chief Information Officer.

[FR Doc. E6-20794 Filed 12-7-06; 8:45 am]

BILLING CODE 3510-08-P